DEPARTMENT OF JUSTICE

Antitrust Division

Notice Pursuant to the National Cooperative Research and Production Act of 1993—Network Centric Operations Industry Consortium, Inc.

Notice is hereby given that, on February 16, 2012, pursuant to Section 6(a) of the National Cooperative Research and Production Act of 1993, 15 U.S.C. 4301 et seq. (“the Act”), Network Centric Operations Industry Consortium, Inc. (“NCOIC”) has filed written notifications simultaneously with the Attorney General and the Federal Trade Commission disclosing changes in its membership. The notifications were filed for the purpose of extending the Act's provisions limiting the recovery of antitrust plaintiffs to actual damages under specified circumstances. Specifically, Conference Concepts, Inc., San Diego, CA; Harris Corporation, Melbourne, FL; and Northrop Grumman Corporation, Los Angeles, CA, have withdrawn as parties to this venture.

No other changes have been made in either the membership or planned activity of the group research project. Membership in this group research project remains open, and NCOIC intends to file additional written notifications disclosing all changes in membership.

On November 19, 2004, NCOIC filed its original notification pursuant to Section 6(a) of the Act. The Department of Justice published a notice in the Federal Register pursuant to Section 6(b) of the Act on February 2, 2005 (70 FR 5486).

The last notification was filed with the Department on November 22, 2011. A notice was published in the Federal Register pursuant to Section 6(b) of the Act on December 21, 2011 (76 FR 79218).

Patricia A. Brink,
Director of Civil Enforcement, Antitrust Division.

[FR Doc. 2012-6285 Filed 3-14-12; 8:45 am]

BILLING CODE P